POSTAL SERVICE

39 CFR Part 111

Intelligent Mail Package Barcode (IMpb) Implementation for Commercial Parcels

AGENCY: Postal Service™.

ACTION: Proposed rule.

SUMMARY: The Postal Service is proposing to revise Mailing Standards of the United States Postal Service, Domestic Mail Manual (DMM®) to require the use of a unique tracking barcode on all commercial parcels, except Standard Mail® parcels, claiming presort and destination entry pricing by January 2012; and to encourage use of unique tracking barcodes by providing free Delivery Confirmation® service on all commercial parcels except Standard Mail parcels.

DATES: Submit comments on or before May 31, 2011.

ADDRESSES: Mail or deliver written comments to the manager, Product Classification, U.S. Postal Service, 475 L'Enfant Plaza SW., Room 4446, Washington, DC 20260-5015. You may inspect and photocopy all written comments at USPS® Headquarters Library, 475 L'Enfant Plaza SW., 11th Floor North, Washington, DC, between 9 a.m. and 4 p.m., Monday through Friday. E-mail comments, containing the name and address of the commenter, may be sent to: MailingStandards@usps.gov, with a subject line of “IMpb.” Faxed comments are not accepted.

FOR FURTHER INFORMATION CONTACT: Juliaann Hess at 202-268-7663 or Kevin Gunther at 202-268-7208.

SUPPLEMENTARY INFORMATION: The Postal Service is currently enhancing its operational capability to allow for the scanning of Intelligent Mail® package barcodes (IMpb) and other extra services barcodes via automated processing equipment and Intelligent Mail scanning devices. Once fully implemented, tracking data, including acceptance, enroute, and delivery status data, will be available for use by commercial mailers who use extra services on their packages.

IMpb can offer a number of additional benefits by allowing the potential for mailers to access piece-level visibility throughout USPS processing and delivery operations. The IMpb will include:

• A routing code to facilitate the processing of packages on automated sorting equipment.

• A channel-specific Application Identifier (AI) that associates the barcode to the payment method, supporting revenue assurance.

• A 3-digit service type code, which will identify the exact mail class and service combination, eliminating the need for multiple barcodes on a package.

• An option to use a 6-digit or 9-digit numeric Mailer ID (MID), to accommodate all mailers.

These enhancements will add data-stream efficiency within mail processing, delivery, payment, and reporting. Intelligent Mail package barcodes also include specific “mail class only” service type codes that may be used for packages without extra services.

To increase IMpb use within the mailing community, the Postal Service proposes to encourage use of unique tracking barcodes by including Delivery Confirmation at no additional charge on all commercial parcels except Standard Mail parcels; and to require the use of a unique tracking barcode on all commercial parcels (except Standard Mail parcels) claiming presort and destination entry pricing.

The provision that allows Delivery Confirmation to be offered without charge requires prior action by the Postal Service Board of Governors and the Postal Regulatory Commission. Assuming such action is completed as intended, the Postal Service proposes to make these new standards effective concurrent with the effective date of the first market dominant price change in 2012 (or January 2012, if no market dominant price change is scheduled for early 2012). The Postal Service plans to provide an optional-use transitional period, until June 4, 2012, to allow mailers sufficient time to effect the necessary changes to their software and systems. Merchandise Return Service (MRS) mailpieces and Business Reply Mail®(BRM) parcels would also qualify for free Delivery Confirmation service at no charge.

Except for users of PC Postage®, the Postal Service proposes to require an Intelligent Mail package barcode (IMpb) for all parcels that include tracking or extra services and all parcels claiming presort and destination entry pricing, effective June 3, 2013. In addition, the Postal Service proposes to require use of version 1.6 Shipping Services Electronic Manifest Files by June 3, 2013; and to require that these files include each destination ZIP + 4® code, or each destination delivery address by that date. This new file format will also require a new version of the customer extract file. The Postal Service proposes to require all parcels shipped using PC Postage systems to bear a IMpb, and to use version 1.6 Shipping Services Electronic Manifest, by June 4, 2012.

To support future sorting efficiencies, the USPS strongly encourages mailers to place a ZIP + 4 code or destination address in the electronic files for each mailpiece as soon as possible. Mailers using the IMpb are also encouraged to include the additional two-digit delivery point code in the electronic file. The Postal Service proposes to require mailers to include the destination ZIP + 4 code (or destination address) in the electronic file for all records by June 3, 2013.

These proposed standards will also require a postal routing code on all parcels and Priority Mail pieces, preferably as a concatenated IMpb or extra services barcode. When a concatenated IMpb or extra services barcode is not used, a separate postal routing barcode must be included in addition to the IMpb. Flat or letter-shaped Priority Mail® or Critical Mail™ pieces may use the Intelligent Mail barcode (IMb) or POSTNET for the postal routing barcode.

Under these proposed standards, (except for Standard Mail) mailers of presorted parcels, parcels claiming destination entry prices, or parcels bearing PC Postage, and who do not purchase a trackable extra service, or make use of the Delivery Confirmation service provided at no charge, must use (at a minimum) a “mail-class only” IMpb service type code that represents the class or subclass of the mailpiece that is being shipped.

The Postal Service also proposes to modify the current requirement for mailers to use an extra service-specific, human-readable, service banner text format when printing an IMpb. Current standards require a different human-readable service banner text for each extra service selected by the mailer. The Postal Service proposes to provide only two generic text options for service banners, when used with an IMpb, for most of the extra services selected. Mailers must use a “USPS TRACKING #” human-readable service banner text above the barcode on packages not requiring a signature at delivery, and a “USPS SIGNATURE TRACKING #” service banner text above the barcode on packages where a signature is required at delivery. These new service banner texts must not be used with Certified Mail®, Registered Mail™, Parcel Return Service or Express Mail® and Priority Mail Open and Distribute products. These new texts will help to simplify IMpb use for mailers and will more accurately describe future processing and tracking capabilities inherent to the IMpb.

The Postal Service recognizes that some small parcels mailers lack a sufficient amount of label space to apply an IMpb or extra services barcode that meets the ¾ inch height requirement. In recognition of this, the Postal Service plans to provide an exception process for mailers to submit barcodes of at least ½ inch in height (for USPS testing and approval), for use on First-Class Mail® and Standard Mail parcels lacking sufficient label space to meet the ¾ inch height requirement.

Background

In January 1999, the Postal Service first provided standards for the use of mailer-generated parcel barcodes. To improve machine readability in processing and scanning at delivery, the USPS revised these standards to limit the use of barcodes on parcels in January 2004 to include only those using GS1-128 symbology (formally known as UCC/EAN-128).

On September 17, 2010, the Postal Service published an advanced notice of proposed rulemaking Federal Register (75 FR 56922-56923), announcing its plans to provide interim IMpb optional-use standards and to require IMpb use for all commercial mailers at a later date. The Postal Service received several comments in response to its advanced notice of proposed rulemaking, which are summarized later in this notice.

The IMpb optional-use standards were incorporated into the DMM, and were available for mailer use beginning November 1, 2010. These optional standards were announced via Postal Bulletin 22297, dated November 4, 2010.

Descriptions of Intelligent Mail Package Barcode and Electronic Documentation

For the purposes of this notice, the term “commercially shipped package” is used to describe any domestic mailpiece meeting the parcel characteristics in DMM section 401.1 and all Express Mail and Priority Mail (except Critical Mail and some Priority Mail flat-size pieces prepared by high-volume mailers) mailpieces, regardless of shape, including commercially shipped flat-rate items.

Piece-level package information is required in the shipping market to expand product lines, increase competitiveness, provide greater visibility to mailers and the Postal Service, and create a more comprehensive service performance measurement tool. Today, without the purchase of an extra service such as Delivery Confirmation, Signature Confirmation™, or insurance, package tracking and delivery information is limited. Barcodes are not currently required on commercially shipped packages, except those entered under an Electronic Verification System (eVS®); and the barcodes now being used are unable to incorporate the data necessary to meet the needs of the USPS Intelligent Mail strategy. Currently, commercially shipped packages can bear barcodes that are designed to provide delivery status information only, and do not always include a routing code (a barcode that represents the destination ZIP Code™). The barcodes currently being used have limited revenue protection capabilities, due to the absence of information associating the piece with its specific payment method; and allow limited integration of multiple extra services.

The IMpb will provide unique piece-level data to enable the Postal Service to increase efficiency, add value to its package product line, enhance package visibility and tracking capabilities, and provide a means by which to measure service performance. The IMpb is a width modulated barcode, which can be up to 34 digits, that generally follows the specifications of the GS1-128 symbology. GS1-128 barcodes are a special type of Code 128 barcodes, which make use of Application Identifiers (AI) to define the encoded data and how it is used. The IMpb leverages features of the GS1-128 symbology to allow for the unique identification and tracking of domestic packages from induction to delivery. The GS1-128 barcode symbology is already a requirement for users of electronic Confirmation Services and eVS. Customers currently participating in these programs will not need to change the symbology of the barcode; however the elements within the barcode and layout will change.

There are several IMpb barcode variations for commercial and retail use that will provide the flexibility to accommodate the diverse shipping needs of postal customers. To improve routing, tracking, and service capabilities, the Postal Service proposes to require mailers to include the correct 5-digit routing code in the barcode on each commercially shipped package, either incorporated into a single concatenated barcode or as a separate postal routing barcode; and to require mailers to transmit the ZIP + 4 code information to the USPS via an electronic file. As an alternative, the Postal Service is proposing to provide an option for mailers to include the destination address in the electronic file, instead of the ZIP + 4 code.

For mailers who generate their own barcoded labels, enhancements to the current requirements for electronic files are necessary to support the additional features incorporated into IMpb. Electronic files now used for packages do not provide adequate space for supplemental fields, limiting their ability to support the additional piece-level information received from customers. The new version 1.6 electronic file format includes expanded package identification code fields to accommodate up to a 34-digit barcode string, and requires fewer file types to support various combinations of products and services. Under these proposed standards, mailers will be required to include the destination ZIP + 4 Code (or destination address) in the electronic file for all records. This additional ZIP Code information will assist in the routing and tracking of our package products. An optional field for the delivery point code of the destination address has also been added to the electronic file to provide additional information to improve service. A listing of electronic file formats is located in the addendum to Publication 91, Addendum for Intelligent Mail Package Barcode (IMpb) and 3-digit Service Type Code, available on the RIBBS® Web site at ribbs.usps.gov.

The data construct of the IMpb barcode differs from that of the current Confirmation Services barcode. Detailed specifications for IMpb barcodes are available in the “Barcode Data” section of the specification document, Barcode, Package, Intelligent Mail (USPS2000508) on RIBBS. The most significant change in the barcode data pertains to the use of service type codes. Currently, parcel barcodes use a 2-digit service type code, which may represent multiple mail classes or products, limiting the number of extra services that may be integrated into a single barcode. When two or more extra services are used, a barcode representing each extra service is usually required on the mailpiece, resulting in the need to scan multiple barcodes at delivery.

The IMpb uses unique 3-digit service type codes to identify the exact product and extra service combinations, eliminating the need for separate barcodes and enabling more efficient package handling and delivery. A list of the 3-digit service type codes is available in the addendum to Publication 91.

Mailers will also be able to increase package visibility by associating each package with the appropriate sack, or an approved equivalent container, which bears an accurately encoded Intelligent Mail tray label. Each sack or approved alternate container may then be electronically associated to a pallet (or equivalent container) that bears an accurately encoded Intelligent Mail container placard.

Under these proposed standards, Intelligent Mail barcodes will not be permitted on packages (except for flat or letter shaped Priority Mail or Critical Mail pieces) in lieu of the IMpb.

Comments

The Postal Service received a total of five comments in response to the September 17, 2010 advanced notice of proposed rulemaking, with some comments addressing more than a single issue. Although one comment was received well after the published deadline, the Postal Service will also address that comment as well. These comments are summarized as follows:

In general, commenters expressed concern about requirements and the mandatory-use IMpb implementation date. As a general response, the Postal Service has elected to encourage, but not require, mailers to apply a unique tracking barcode on all parcels. As an encouragement, the Postal Service proposes to include Delivery Confirmation service at no additional charge on all commercial parcels, except Standard Mail parcels, bearing a unique tracking barcode. Mailers may meet this requirement using the current format for extra service barcodes or through use of the IMpb, for which optional-use standards have been available since November 1, 2010. Under these proposed standards, mailers who are not using an IMpb, or do not apply a unique extra service barcode on their commercially shipped mailpieces, by the date of the first market dominant price change in 2012 (or January 2012, if no market dominant price change is scheduled for early 2012) will not qualify for presort or destination entry pricing. Each IMpb or unique extra service barcode must include a postal routing code, preferably using a concatenated barcode format. In response to customer concerns, the Postal Service proposes to extend its IMpb mandatory-use date to June 2013 (except for users of PC Postage). Mailers are encouraged to use the IMpb and corresponding electronic files as soon as possible. For certain mailers such as those mailing high-volume Priority Mail flat-size pieces prepared in high-speed production environments, the Postal Service proposes to allow use of Intelligent Mail barcodes (IMb) on these pieces instead of the IMpb. The IMb is more compatible with the high speed production environment for Priority Mail flats. However, visibility within USPS tracking systems will be limited and pieces bearing an IMb, without an extra service included, will not receive “delivered” scan events.

Two commenters inquired regarding the location of detailed IMpb specifications and whether the RIBBS Web site would provide a guide similar to that available for users of Intelligent Mail barcodes. IMpb barcode specifications are located in the specification document, Barcode, Package, Intelligent Mail (USPS2000508). In addition, the addendum to Publication 91, Addendum for Intelligent Mail Package Barcode (IMpb) and 3-digit Service Type Code, contains electronic manifest file specifications, service type codes, and other information needed to support conversion to the IMpb. Both documents were posted on RIBBS September 17, 2010, and can be viewed at http://ribbs.usps.gov/index.cfm?page=intellmailpackage. With the issuance of this proposed rule, additional specifications for electronic data interchange (EDI) messages and use of the Product Tracking System Test Environment for Mailers are included in the addendum to the revised Publication 91. Publication 205, Electronic Verification System Business and Technical Guide, for eVS users has been updated to reflect IMpb use and is also available on RIBBS at http://ribbs.usps.gov/evs/documents/tech_guides/Pub205.PDF.

One commenter expressed concern with the replacement of current fixed-length barcodes with IMpb variable-length barcodes. To provide flexibility, the IMpb provides several constructs or layouts that have a specific length and data element requirements, each having a fixed length serial number. Thus the serial number field is no longer of variable length (i.e., 2-8 digits) as in the current barcode format. The IMpb serial number is fixed length and must remain unique for 180 days. The number of digits in the serial number is determined by the barcode construct or layout used.

One commenter requested that the USPS not expand the existing requirements for population of the ZIP + 4 code field in the current Confirmation Services barcode to the IMpb. The USPS agrees with this recommendation and proposes to require the destination ZIP + 4 code in the electronic file only for all commercially shipped packages that request tracking or extra services. In addition, the implementation date for this requirement is proposed to be extended to June 3, 2013 to allow customers more time for programming and transition. In the interim, mailers who are able to include a ZIP + 4 code sooner are encouraged to do so. In addition, the Postal Service is proposing to allow mailers to include the destination address (instead of the ZIP + 4 code) in the electronic documentation as another alternative.

A commenter inquired if there will be new service type codes required for IMpb use. The IMpb provides hundreds of numeric 3-digit service type codes which uniquely represent the mail class and any combination of services used. The use of 3-digit service type codes adds intelligence and efficiency to barcodes used for packages and extra services. The 3-digit service type codes used for the IMpb are different from those used with the IMb.

One commenter asked if IMpb will be supported by the PostalOne!® and the Seamless Acceptance Service Performance (SASP) systems. IMpb is supported by the Electronic Verification System (eVS) component of the PostalOne! system. However, the Product Tracking System (PTS) is the primary USPS system that maintains tracking and other information, including expected delivery dates, for the IMpb and the existing Confirmation Services barcodes used for packages and other extra services (i.e., Certified Mail, Registered Mail, etc). There is currently no interface or interaction with the Seamless Acceptance and Service Performance (SASP) system at this time. The SASP system is used primarily for letters and flats.

Another commenter requested clarification of USPS intentions regarding changes to its current cost models. The Postal Service expects IMpb use, within a fully barcoded package stream, to improve processing and cycle time measurement and to simplify tracking. This will increase efficiencies in package processing and positively influence USPS costs overall. In addition, the IMpb technology will enrich the breadth of data and information available for business analytics.

Several commenters asked if the USPS will require an IMpb on all packages, including those currently sorted and dropshipped without a barcode, and how this will affect pricing and the entry process. These commenters also asked what the price will be for packages not bearing an IMpb, and if the USPS intends to implement a varying price structure, similar to that available to basic and full-service IMb mailers. The Postal Service proposes to require an IMpb or extra services barcode on all commercially shipped packages (except Standard Mail) claiming presort or destination entry pricing. The Postal Service intends to follow industry best practices by leveraging technology along with the intelligence and improved processing capabilities afforded by a fully barcoded package mailstream to increase efficiencies and the value of our package products in the market place.

A commenter expressed concern that requiring use of the IMpb by January 2012 would negatively impact current Priority Mail and Express Mail volumes, particularly those sent by small and medium sized businesses, many of whom are postage meter customers. The commenter requested that the USPS convene a workgroup, including meter manufacturers, to develop an approach to encourage Express Mail and Priority Mail customers to use the IMpb. To support mailer transition to the IMpb, the Postal Service proposes to delay the mandatory-use date to June 3, 2013, and allow optional use, with the benefit of free Delivery Confirmation in 2012. In consideration of the small and medium-size mailers primarily using postage meters, the Postal Service will consult with the meter and PC Postage industry to collaboratively agree on a date for these mailers to be required to use the IMpb.

Although we are exempt from the notice and comment requirements of the Administrative Procedure Act [5 U.S.C. 553(b), (c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is proposed to be amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

400 Commercial Parcels

401 Physical Standards

* * * * *

2.0 Additional Physical Standards by Class of Mail

* * * * *

2.6 Bound Printed Matter Parcels

2.6.1 General Standards

The following standards apply to Bound Printed Matter parcels:

* * * * *

[Revise 2.6.1b as follows:]

b. Nonpresorted Bound Printed Matter parcels may be eligible for a barcode discount under 463 if the parcels bear a unique Intelligent Mail package barcode or extra services barcode, including a postal routing code, prepared under 708.5.0.

* * * * *

410 Express Mail

413 Prices and Eligibility

1.0 Prices and Fees

* * * * *

1.3 Commercial Base Prices

* * * These prices apply to:

* * * * *

[Revise item 1.3c as follows:]

c. Registered end-users of USPS-approved PC Postage providers when using a qualifying shipping label (that includes an Intelligent Mail package barcode) managed by the PC Postage system used.

* * * * *

1.4 Commercial Plus Prices

* * * * *

1.4.1 Eligibility

Commercial plus pricing is available to existing customers whose cumulative account volume exceeds 5,000 pieces in the previous four quarters or who have a customer commitment agreement with the USPS (see 1.4.2) and who are:

* * * * *

[Revise item 1.4.1b as follows:]

b. Registered end-users of USPS-approved PC Postage products when using a qualifying shipping label (that includes an Intelligent Mail package barcode) managed by the PC Postage system used.

* * * * *

420 Priority Mail

423 Prices and Eligibility

1.0 Prices and Fees

* * * * *

1.2 Commercial Base Prices

1.2.1 Commercial Base Prices Eligibility

Commercial base prices are available for:

* * * * *

[Revise 1.2.1b as follows:]

b. Registered end-users of USPS-approved PC Postage providers when using a qualifying shipping label (that includes an Intelligent Mail package barcode) managed by the PC Postage system used.

* * * * *

1.3 Commercial Plus Prices

1.3.1 Existing Priority Mail Customers

Commercial plus prices are available to Priority Mail (including Critical Mail) customers who qualify for commercial base prices and whose cumulative account volume exceeds a combined total of 5,000 letter-size and flat-size pieces (including Flat Rate Envelopes, but not the Padded Flat Rate Envelope) or 75,000 total pieces in the previous calendar year (except Priority Mail Open and Distribute) or who have a customer commitment agreement with USPS, and are:

[Revise item 1.3.1a as follows:]

a. Registered end-users of USPS-approved PC Postage providers when using a qualifying shipping label (that includes an Intelligent Mail package barcode) managed by the PC Postage system used.

* * * * *

1.4 Commercial Plus Cubic

1.4.1 Commercial Plus Cubic Eligibility

* * * The commercial plus cubic prices are available for:

[Revise item 1.4.1a as follows:]

a. Registered end-users of USPS-approved PC Postage providers when using a qualifying shipping label (that includes an Intelligent Mail package barcode) managed by the PC Postage system used.

* * * * *

430 First-Class Mail

433 Price and Eligibility

1.0 Prices and Fees for First-Class Mail

* * * * *

1.3 Commercial Base Parcel Prices

[Revise the introductory paragraph of 1.3 as follows:]

For prices, see Notice 123—Price List. Commercial base parcels may be presorted or nonpresorted. Postage for presorted parcels must be paid in accordance with standards in 434. Each presorted parcel must Include a unique Intelligent Mail package barcode or extra services barcode, including a postal routing code under 708.5.0. Nonpresorted First-Class Mail parcels mailed under the following conditions are eligible for single-piece commercial base parcel prices:

* * * * *

[Add a new item 1.3c as follows:]

c. Each parcel with PC Postage must bear a unique Intelligent Mail package barcode or extra services barcode, including a postal routing code, prepared under 708.5.0. See 1.5 for when a surcharge applies to nonpresorted parcels.

* * * * *

1.4 Commercial Plus Prices

[Revise the last sentence of 1.4 as follows:]

* * * Commercial plus prices are available for customers presenting mailings of 500 or more parcels who:

* * * * *

[Add a new 1.4e as follows:]

e. For presorted parcels, include a unique Intelligent Mail package barcode or extra services barcode, including a postal routing code, prepared under 708.5.0 on each parcel. For single-piece parcels, see 1.5 for when a surcharge applies.

1.5 Surcharge

[Revise 1.5 as follows:]

A surcharge applies to parcels with the following characteristics:

a. Unless prepared in 5-digit/scheme containers, presorted parcels weighing less than 2 ounces or that are irregularly shaped, such as rolls, tubes, and triangles.

b. Nonpresorted commercial base parcels and single-piece commercial plus parcels that do not bear a unique Intelligent Mail package barcode or extra services barcode, including a postal routing code, prepared under 708.5.0.

* * * * *

3.0 Basic Standards for First-Class Mail Parcels

* * * * *

3.3 Additional Basic Standards for First-Class Mail

All pieces of presorted First-Class Mail must:

* * * * *

[Add a new 3.3f as follows:]

f. Bear a unique Intelligent Mail package barcode or extra services barcode, including a postal routing code, prepared under 708.5.0.

* * * * *

450 Parcel Select

453 Prices and Eligibility

* * * * *

3.0 Price Eligibility for Parcel Select and Parcel Select Regional Ground

3.1 Destination Entry Price Eligibility

* * * * *

3.1.2 Basic Standards

For Parcel Select destination entry, pieces must meet the applicable standards in 455.4.0 and the following criteria:

* * * * *

[Add a new 3.1.2f as follows:]

f. Pieces must bear a unique Intelligent Mail package barcode or extra services barcode, including a postal routing code, prepared under 708.5.0.

* * * * *

3.2 Parcel Select NDC and ONDC Presort Price Eligibility

[Revise 3.2 by adding a new last sentence as follows:]

* * * Parcel Select NDC and ONDC Presort pieces must bear a unique Intelligent Mail package barcode or extra services barcode, including a postal routing code, prepared under 708.5.0.

3.3 Parcel Select Barcoded Nonpresort Price Eligibility

[Revise 3.3 as follows:]

Pieces mailed at Parcel Select Barcoded Nonpresort prices must be machinable parcels. Each parcel must bear a unique Intelligent Mail package barcode or extra services barcode, including a postal routing code, prepared under 708.5.0. There is a minimum volume of 50 pieces per mailing for parcels mailed at the Parcel Select Barcoded Nonpresort price, except for parcels with USPS-approved PC Postage for which there is no minimum volume per mailing.

[Delete 3.3a through c in their entirety.]

* * * * *

460 Bound Printed Matter

463 Prices and Eligibility

1.0 Prices and Fees for Bound Printed Matter

1.1 Nonpresorted Bound Printed Matter

* * * * *

1.1.3 Barcode Discount—Machinable Parcels

[Revise 1.1.3 as follows:]

The barcoded discount applies only to nonpresorted BPM machinable parcels (401.1.5.1) that bear a unique Intelligent Mail package barcode or extra services barcode, including a postal routing code, prepared under 708.5.0. The pieces must be part of a nonpresorted mailing of 50 or more BPM parcels.

* * * * *

4.0 Price Eligibility for Bound Printed Matter Parcels

4.1 Price Eligibility

* * * Price categories are as follows:

* * * * *

[Add a new last sentence to 4.1b as follows:]

b. Presorted Price. * * * Each parcel must bear a unique Intelligent Mail package barcode or extra services barcode, including a postal routing code, prepared under 708.5.0.

[Add a new last sentence to 4.1c as follows:]

c. Carrier Route Price. * * * Each parcel must bear a unique Intelligent Mail package barcode or extra services barcode, including a postal routing code, prepared under 708.5.0.

[Revise 4.1d as follows:]

d. Barcoded Discount—Machinable Parcels. The barcoded discount applies only to nonpresorted BPM machinable parcels (see 401.1.5) that bear a unique Intelligent Mail package barcode or extra services barcode, including a postal routing code, prepared under 708.5.0.

* * * * *

465 Mail Preparation

* * * * *

[Delete 7.0, Standards for Barcode Discounts, in its entirety.]

* * * * *

470 Media Mail

473 Prices and Eligibility

* * * * *

3.0 Price Eligibility for Media Mail Parcels

* * * * *

3.2 Price Eligibility Standards

[Revise 3.2 by adding a new second sentence as follows:]

* * * Each piece must bear a unique Intelligent Mail package barcode or extra services barcode, including a postal routing code, prepared under 708.5.0. * * *

* * * * *

3.4 Price Categories for Media Mail

* * * The price categories and discounts are as follows:

* * * * *

[Delete 3.4c in its entirety to remove reference to barcode discounts.]

* * * * *

475 Mail Preparation

* * * * *

5.0 Preparing Media Mail Parcels

* * * * *

5.2 Preparing Machinable Parcels

* * * * *

[Delete 5.2.3, Standards for Barcode Discount, in its entirety.]

* * * * *

480 Library Mail

483 Prices and Eligibility

* * * * *

3.0 Price Eligibility for Library Mail Parcels

* * * * *

3.2 Price Eligibility Standards

[Revise 3.2 by adding a new second sentence as follows:]

* * * Each piece must bear a unique Intelligent Mail package barcode or extra services barcode, including a postal routing code, prepared under 708.5.0. * * *

* * * * *

3.4 Price Categories for Library Mail

Library Mail prices are based on the weight of the piece without regard to zone. The price categories and discounts are as follows:

* * * * *

[Delete 3.4c in its entirety to remove reference to barcode discounts]

* * * * *

485 Mail Preparation

* * * * *

5.0 Preparing Library Mail Parcels

* * * * *

[Delete 5.4, Standards for Barcode Discounts, in its entirety.]

* * * * *

500 Additional Mailing Services

503 Extra Services

* * * * *

4.0 Insured Mail

* * * * *

4.3 Mailing

* * * * *

4.3.5 Integrated Barcodes

The following options are available for mailers who print their own labels:

* * * * *

[Add a new last sentence to the introductory paragraph of 4.3.5c as follows:]

c. * * * The following standards also apply:

[Revise 4.3.5c1 through c3 as follows:]

1. Mailers may purchase insurance online for indemnity coverage of $200.00 or less with electronic option Delivery Confirmation service. Prepare barcodes under 4.3.5d.

2. Mailers may purchase insurance online for indemnity coverage of more than $200, up to $500 (up to $5,000 via Click-n-Ship), with electronic option Delivery Confirmation service. Mailers may also purchase insurance online for up to $500 (up to $5,000 via Click-n-Ship) with Signature Confirmation service. In both cases, prepare barcodes under 4.3.5e.

[Add a new 4.3.5d and 5e as follows:]

d. Intelligent Mail package barcodes placed on insured packages with indemnity coverage of $200.00 or less must bear a human-readable service banner with the text “USPS TRACKING #” printed in accordance with Exhibit 708.5.1.4. Other approved extra services barcodes must bear a human-readable service banner with the text “USPS DELIVERY CONFIRMATION” prepared under 708.5.0.

e. Intelligent Mail package barcodes placed on insured packages with indemnity coverage greater than $200.00 and with electronic Signature Confirmation service must bear a human-readable service banner with the text “USPS SIGNATURE TRACKING #” printed in accordance with Exhibit 708.5.1.4. Other approved extra services barcodes must bear a human-readable service banner with the text “USPS INSURED,” or “USPS SIGNATURE CONFIRMATION” prepared under 708.5.0.

* * * * *

8.0 Return Receipt for Merchandise

* * * * *

8.3 Mailing

* * * * *

[Renumber current 8.3.6 through 8.3.7 as the new 8.3.7 through 8.3.8 and add a new 8.3.6 as follows:]

8.3.6 Barcodes

Barcodes printed by mailers must meet the following standards:

a. Intelligent Mail package barcodes and other approved extra services barcodes applied by mailers must be prepared in accordance with 708.5.0.

b. Intelligent Mail package barcodes must include the human-readable service banner with the text “USPS SIGNATURE TRACKING #” printed in accordance with Exhibit 708.5.1.4.

c. Other approved extra services barcodes must bear a human-readable service banner with the text “RETURN RECEIPT FOR MERCHANDISE” prepared in accordance with 708.5.0.

* * * * *

9.0 Delivery Confirmation

* * * * *

9.4 Barcodes

* * * * *

9.4.3 Printing

* * * Labels used for Delivery Confirmation must meet these additional specifications:

[Revise 9.4.3a as follows:]

Intelligent Mail package barcodes must bear a human-readable service banner with the text “USPS TRACKING #” printed in accordance with Exhibit 708.5.1.4. Other approved extra services barcodes must bear a human-readable service banner with the text “USPS DELIVERY CONFIRMATION” prepared in accordance with 708.5.0.

* * * * *

10.0 Signature Confirmation

* * * * *

10.4 Barcodes

* * * * *

10.4.3 Printing

* * * Labels used for Signature Confirmation must meet these additional specifications:

[Revise 10.4.3a as follows:]

a. Intelligent Mail package barcodes must bear a human-readable service banner with the text “USPS SIGNATURE TRACKING #” printed in accordance with Exhibit 708.5.1.4. Other approved extra services barcodes must bear a human-readable service banner with the text “USPS SIGNATURE CONFIRMATION” prepared in accordance with 708.5.0.

* * * * *

700 Special Standards

* * * * *

705 Advanced Preparation and Special Postage Payment Systems

* * * * *

7.0 Combining Package Services and Parcel Select Parcels for Destination Entry

7.1 Combining Parcels—DSCF and DDU Entry

7.1.1 Qualification

[Revise the last sentence of 7.1.1 as follows:]

* * * Parcels claiming destination entry pricing must bear a unique Intelligent Mail package barcode or extra services barcode, including a postal routing code, prepared under 708.5.0.

* * * * *

708 Technical Specifications

* * * * *

5.0 Standards for Package and Extra Service Barcodes

5.1 Intelligent Mail Package Barcode

* * * * *

5.1.4 Physical Barcode Requirements

* * * Physical barcode requirements are as follows:

* * * * *

[Revise 5.1.4d as follows:]

d. Barcode Height: unless allowed by exception, the minimum height must be at least 0.75 inch.

* * * * *

g. Human-Readable Representation of Barcode Data and Service Banner: text must be printed in accordance with Exhibit 5.1.4 and as follows:

* * * * *

[Revise 5.1.4g2 as follows:]

2. Service Banners must include the human-readable text “USPS SIGNATURE TRACKING #” for mailpieces requiring a signature at delivery and “USPS TRACKING #” for all other mailpieces (service banner text shown in Exhibit 5.1.4 is an example). See Publication 91 (addendum appendix H) at http://ribbs.usps.gov for additional information.

* * * * *

Exhibit 5.1.4 Barcode Specifications

[Replace Exhibit 5.1.4 with a revised label illustrating the proposed generic human-readable service banner text.]

* * * * *

We will publish an appropriate amendment to 39 CFR Part 111 to reflect these changes if our proposal is adopted.

Stanley F. Mires,
Chief Counsel, Legislative.

[FR Doc. 2011-10244 Filed 4-27-11; 8:45 am]

BILLING CODE 7710-12-P